DEPARTMENT OF JUSTICE

Drug Enforcement Administration Manufacturer of Controlled Substances; Notice of Application

Pursuant to Section 1301.33(a) of Title 21 of the Code of Federal Regulations (CFR), this is notice that on July 24, 2000, American Radiolabeled Chemical, Inc., 11624 Bowling Green Drive, St. Louis, Missouri 63146, made application by renewal to the Drug Enforcement Administration (DEA) for registratin as a bulk manufacturer of the basic classes of controlled substances listed below:

Drug | Schedule
Gamma hydroxybutyric acid (2010) | I
Lysergic acid diethylamide (7315) | I
Dimethyltryptamine (7435) | I
Dihydromorphine (9145) | I
Phencyclidine (7471) | II
Cocaine (9041) | II
Codeine (9050) | II
Hydromorphone (9150) | II
Benzoylecgonine (9180) | II
Meperidine (9230) | II
Metazocine (9240) | II
Morphine (9300) | II
Oxymorphone (9652) | II

The firm plans to bulk manufacture small quantities of the listed controlled substances as radiolabeled compound.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: DEA Federal Register Representative (CCR), and must be filed no later than November 24, 2000.

Dated: September 6, 2000.
John H. King,
Deputy Assistant Administrator, Office of Diversion Control Drug Enforcement Administration.

[FR Doc. 00-24560 Filed 9-22-00; 8:45 am]

BILLING CODE 4410-09-M